POSTAL SERVICE

39 CFR Part 266

Privacy Act of 1974; Implementation

AGENCY: Postal Service.

ACTION: Final rule.

SUMMARY: The Postal Service is amending its regulations implementing the Privacy Act of 1974, 5 U.S.C. 552a. This amendment modifies existing regulations (39 CFR 266.9) to exempt system of records, Office of Inspector General-Investigative File System, USPS 300.010, from certain provisions of the Act and corresponding agency regulations.

DATES: This rule is effective on August 6, 2001.

FOR FURTHER INFORMATION CONTACT: Howard Cox, Acting Legal Director, Office of Inspector General (703) 248-2164.

SUPPLEMENTARY INFORMATION: The Postal Service published a proposed rule on December 27, 2000, to amend 39 CFR 266.9 to apply certain Privacy Act exemptions to the OIG Investigative File System. The Office of Inspector General (OIG) is a component of the Postal Service that performs as one of its principal functions investigations into violations of criminal law in connection with Postal Service programs and operations, pursuant to the Inspector General Act of 1978, as amended. 5 U.S.C. App.3. The OIG Investigative File System falls within the scope of subsections (j)(2), (k)(2), and (k)(5) of the Act. Comments on the proposed rule were due on or before January 26, 2001. We did not receive any comments. Therefore, the rule is adopted as final without any changes.

The Postal Service has exempted certain systems of records that it maintains from specific provisions of the Privacy Act. At the time it adopted the exemptions contained in its Privacy Act regulations (39 CFR 266.9), the Postal Service stated its reason for each exemption in the preamble of the notice of proposed rulemaking (40 FR 37227, August 26, 1975). These reasons were added to the text of § 266.9 by final rule published July 13, 1994 (59 FR 35625). This proposed rule does not change the current application of exemptions, except to apply certain exemptions to the OIG Investigative File System.

List of Subjects in 39 CFR Part 266

Privacy.

PART 266—[AMENDED]

Accordingly, 39 CFR is amended as set forth below:

1. The authority citation for part 266 continues to read as follows:

Authority: 39 U.S.C. 401; 5 U.S.C. 552a.

2. In § 266.9 revise paragraphs (b)(1)(vii), (b)(2) introductory text, (b)(2)(i), (b)(2)(ii), (b)(2)(iii) and add paragraph (b)(2)(viii) to read as follows:

§ 266.9 Exemptions.

* * * * *

(b) * * *

(1) * * *

(vii) Subsection (e)(4)(G) and (H) requires an agency to publish a Federal Register notice of its procedures whereby an individual can be notified upon request whether the system of records contains information about the individual, how to gain access to any record about the individual contained in the system, and how to contest its content. Subsection (e)(4)(I) requires the foregoing notice to include the categories of sources in the system.

* * * * *

(2) Inspection Requirements—Investigative File System, USPS 080.010, Inspection Requirements—Mail Cover Program, USPS 080.020, and Office of Inspector General-Investigative File System, USPS 300.010. These systems of records are exempt from 5 U.S.C. 552a (c)(3) and (4), (d)(1)-(4), (e)(1)-(3), (e)(4) (G) and (H), (e)(5) and (8), (f), (g), and (m). In addition, system 300.010 is exempt from 5 U.S.C. 552a(e)(4)(I). The reasons for exemption follow:

(i) Disclosure to the record subject pursuant to subsections (c)(3), (c)(4), or (d)(1)-(4) could:

(A) Alert subjects that they are targets of an investigation or mail cover by the Postal Inspection Service or an investigation by the Office of Inspector General;

(B) Alert subjects of the nature and scope of the investigation and of evidence obtained;

(C) Enable the subject of an investigation to avoid detection or apprehension;

(D) Subject confidential sources, witnesses, and law enforcement personnel to harassment or intimidation if their identities were released to the target of an investigation;

(E) Constitute unwarranted invasions of the personal privacy of third parties who are involved in a certain investigation;

(F) Intimidate potential witnesses and cause them to be reluctant to offer information;

(G) Lead to the improper influencing of witnesses, the destruction or alteration of evidence yet to be discovered, the fabrication of testimony, or the compromising of classified material; and

(H) Seriously impede or compromise law enforcement, mail cover, or background investigations that might involve law enforcement aspects as a result of the above. (ii) Application of subsections (e)(1) and (e)(5) is impractical because the relevance, necessity, or correctness of specific information might be established only after considerable analysis and as the investigation progresses. As to relevance (subsection (1)), effective law enforcement requires the keeping of information not relevant to a specific Postal Inspection Service investigation or Office of Inspector General investigation. Such information may be kept to provide leads for appropriate law enforcement and to establish patterns of activity that might relate to the jurisdiction of the Office of Inspector General, Postal Inspection Service, and/or other agencies. As to accuracy (subsection (e)(5)), the correctness of records sometimes can be established only in a court of law.

(iii) Application of subsections (e)(2) and (3) would require collection of information directly from the subject of a potential or ongoing investigation. The subject would be put on alert that he or she is a target of an investigation by the Office of Inspector General, or an investigation or mail cover by the Postal Inspection Service, enabling avoidance of detection or apprehension, thereby seriously compromising law enforcement, mail cover, or background investigations involving law enforcement aspects. Moreover, in certain circumstances the subject of an investigation is not required to provide information to investigators, and information must be collected from other sources.

* * * * *

(viii) The requirement of subsection (e)(4)(I) does not apply to system 300.010, because identification of record source categories could enable the subject of an investigation to improperly interfere with the conduct of the investigation.

* * * * *

Stanley F. Mires,
Chief Counsel, Legislative.

[FR Doc. 01-19474 Filed 8-3-01; 8:45 am]

BILLING CODE 7710-12-P